DEPARTMENT OF THE INTERIOR

Bureau of Land Management

[LLWYR05000.L16100000.XP0000; WYW 168593]

Notice of Proposed Withdrawal and Notification of a Public Meeting for the Johnny Behind the Rocks Recreation Zone, Wyoming

AGENCY: Bureau of Land Management, Interior.

ACTION: Notice.

SUMMARY: On behalf of the Bureau of Land Management (BLM), the Assistant Secretary for Land and Minerals Management proposes to withdraw, subject to valid existing rights, 4,964.75 acres of public land from location and entry under the United States mining laws, but not from leasing under the mineral or geothermal leasing laws, for a period of 20 years. The proposed withdrawal is needed to protect cultural and recreational resources of the Johnny Behind the Rocks Recreation Zone in Fremont County, Wyoming. This notice temporarily segregates the land for up to 2 years from location and entry under the United States mining laws, while the application is processed. This notice also gives an opportunity to comment on the proposed withdrawal, and announces a public meeting date, time, and location.

DATES: Comments on the proposed withdrawal must be received on or before September 8, 2016. A public meeting will be held on July 25, 2016.

ADDRESSES: Please mail or hand deliver all comments concerning the proposed withdrawal to Kristin Yannone, Planner, BLM Lander Field Office, 1335 Main, Lander, Wyoming, 82520.

The public meeting will be held at the Fremont County Library, 220 North 2nd Street, Lander, Wyoming.

FOR FURTHER INFORMATION CONTACT: Kristin Yannone, Planner, by mail at the BLM Lander Field Office, 1335 Main Street, Lander, Wyoming, 82520; by phone at 307-332-8400; or by email at kyannone@blm.gov. Persons who use a telecommunications device for the deaf may call the Federal Information Relay Service (FIRS) at 800-877-8339 to contact Ms. Yannone. The FIRS is available 24 hours a day, seven days a week, to leave a message or question with the above individual. You will receive a reply during normal business hours.

SUPPLEMENTARY INFORMATION: The BLM filed an application requesting the Assistant Secretary for Land and Minerals Management withdraw, subject to valid existing rights, the following described public land from location and entry under the United States mining laws, but not from leasing under the mineral or geothermal leasing laws, to protect the cultural and recreational resources of the Johnny Behind the Rocks Recreation Zone:

Sixth Principal Meridian

T. 31 N., R. 98 W.,

Sec. 3, lots 3 and 4;

Sec. 4, lot 1;

Sec. 5, lot 1.

T. 32 N., R. 98 W.,

Sec. 17, SW1/4, NW1/4SE1/4, and S1/2SE1/4;

Sec. 18, lots 9 thru 12, and SE1/4;

Sec. 19, lots 5 thru 10, and E1/2;

Sec. 20;

Sec. 21, SW1/4NW1/4, W1/2SW1/4, and SE1/4SW1/4;

Sec. 28, SW1/4NE1/4, W1/2, NW1/4SE1/4, and S1/2SE1/4;

Sec. 29;

Sec. 30, NE1/4;

Sec. 32, N1/2, NE1/4SW1/4, and SE1/4;

Sec. 33;

Sec. 34, SW1/4NW1/4, SW1/4, and W1/2SE1/4.

T. 32 N., R. 99 W.,

Sec. 13, E1/2SE1/4;

Sec. 24, SE1/4NE1/4.

The area described contains approximately 4,964.75 acres in Fremont County.

The Assistant Secretary for Land and Minerals Management approved the BLM's petition/application. Therefore, the petition/application constitutes a withdrawal proposal of the Secretary of the Interior (43 CFR 2310.1-3(e)).

The purpose of the proposed withdrawal is to protect the cultural and recreational resources of the Johnny Behind the Rocks Recreation Zone.

The use of a right-of-way, interagency, or cooperative agreement would not adequately constrain nondiscretionary uses which could result in permanent loss of significant values and irreplaceable resources.

There are no suitable alternative sites since the lands contain cultural and recreational resources that are unique to the area proposed for withdrawal.

No additional water rights will be needed to fulfill the purpose of the requested withdrawal.

Records relating to the application may be examined by contacting the BLM at the above addresses and phone numbers.

For a period until September 8, 2016, all persons who wish to submit comments, suggestions or objections in connection with the proposed withdrawal may present their views in writing to Kristin Yannone, Planner, BLM Lander Field Office, 1335 Main, Lander, Wyoming, 82520.

Comments, including names, street addresses and other contact information of respondents, will be available for public review at the BLM Lander Field Office during regular business hours, 8:00 a.m. to 4:30 p.m., Monday through Friday, except Federal holidays. Before including your address, phone number, email address, or other personal identifying information in your comment, be advised that your entire comment—including your personal identifying information—may be made publicly available at any time. While you can ask in your comment to withhold from public review your personal identifying information, we cannot guarantee that we will be able to do so.

A public meeting will be held on July 25, 2016, at the Fremont County Library, 220 North 2nd Street, Lander, Wyoming, from 4:30-5:30 p.m. A notice of the meeting will be published in at least one local newspaper no less than 30 days before the scheduled meeting date. Interested parties may make oral statements and may file written statements at the meeting.

For a period until June 11, 2018, the public land described in this notice will be segregated from location and entry under the United States mining laws, but not from leasing under the mineral or geothermal leasing laws, unless the application is denied or canceled or the withdrawal is approved prior to that date.

Licenses, permits, cooperative agreements or discretionary land use authorizations of a temporary nature that would not impact the site may be allowed with the approval of an authorized officer of the BLM during the temporary segregative period.

This withdrawal proposal will be processed in accordance with the regulations set forth in 43 CFR part 2300.

Michael G. Valle,
Acting BLM Wyoming State Director.

[FR Doc. 2016-13762 Filed 6-9-16; 8:45 am]

BILLING CODE 4310-22-P